DEPARTMENT OF COMMERCE

National Institute of Standards and Technology

[Docket No.: 110620345-1581-02]

Extension of the Due Date for Submitting Information on How to Structure Proposed New Program: Advanced Manufacturing Technology Consortia (AMTech)

AGENCY: National Institute of Standards and Technology (NIST), Department of Commerce.

ACTION: Request for information.

SUMMARY: On July 22, 2011, NIST published a Request for Information in the Federal Register inviting interested parties to submit written comments on how to best structure a potential new public-private partnership program, the Advanced Manufacturing Technology Consortia (AMTech) Program, which was proposed in the NIST fiscal year (FY) 2012 budget. NIST is publishing this notice to extend the deadline for the submission of comments pertaining to the proposed AMTech Program until 11:59 p.m., Eastern Time, on Thursday, October 20, 2011. No other changes are being made to the originally published Request for Information.

DATES: Comments are due on or before 11:59 p.m., Eastern Time, on Thursday, October 20, 2011. Comments received between September 20, 2011 and the publication date of this notice are deemed to be timely.

ADDRESSES: Comments will be accepted by e-mail only. Comments must be sent to AMTechRFC@nist.gov with the subject line “AMTech Comments.”

FOR FURTHER INFORMATION CONTACT: Barbara Lambis, 301-975-4447, barbara.lambis@nist.gov, or Michael D. Walsh, 301-975-5455, michael.walsh@nist.gov.

SUPPLEMENTARY INFORMATION: The Advanced Manufacturing Technology Consortia (AMTech) Program was proposed in the NIST FY 2012 budget (see http://www.osec.doc.gov/bmi/budget/12CJ/2012_NIST_&_NTIS_Cong_Budget.pdf (pp. NIST-250 to NIST-254) for a copy of the AMTech Program budget justification). As envisioned, the AMTech Program would provide Federal financial assistance to leverage existing or newly created industry-led consortia to develop precompetitive enabling manufacturing technologies. These consortia would develop roadmaps of critical long-term industrial manufacturing research needs, and issue sub-awards to fund research by universities, government laboratories, and U.S. businesses. This initiative would support research and development (R&D) in advanced manufacturing, with the goal of strengthening long-term U.S. leadership in the development of critical technologies that lead to sustainable economic growth and job creation.

On July 22, 2011, NIST published a Request for Information in the Federal Register (76 FR 43983, http://www.gpo.gov/fdsys/pkg/FR-2011-07-22/pdf/2011-18580.pdf) inviting interested parties to provide written comments on how to best structure the proposed AMTech Program for which has not yet received FY 2012 appropriations. The due date for the submission of comments as set forth in the original Request for Information was 11:59 p.m., Eastern Time, on Tuesday, September 20, 2011. By way of this notice, NIST is extending the due date for the submission of comments until 11:59 p.m., Eastern Time, on Thursday, October 20, 2011, in order to provide interested parties additional time to submit their comments pertaining to the proposed AMTech Program. Comments received between 11:59 p.m., Eastern Time, on Tuesday, September 20, 2011, and the publication of this notice in the Federal Register are deemed to be timely. No other changes are being made to the originally published Request for Information.

Dated: September 20, 2011.
Phillip Singerman,
Associate Director for Innovation and Industry Services, National Institute of Standards and Technology.

[FR Doc. 2011-24538 Filed 9-22-11; 8:45 am]

BILLING CODE 3510-13-P